FEDERAL COMMUNICATIONS COMMISSION

Notice of Public Information Collection(s) Being Submitted for Review and Approval to the Office of Management and Budget (OMB), Comments Requested

September 16, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before October 22, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov. To view a copy of this information collection request (ICR) submitted to OMB: (1) Go to the web page http://reginfo.gov/public/do/PRAMain, (2) look for the section of the web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: Judith B. Herman, Office of Managing Director, (202) 418-0214. For additional information or copies of the information collection(s), contact Judith B. Herman, OMD, 202-418-0214 or email judith-b.herman@fcc.gov.

SUPPLEMENTARY INFORMATION: OMB Control Number: 3060-1140.

Title: Requests for Waiver of Various Petitioners to Allow the Establishment of 700 MHz Interoperable Public Safety Wireless Broadband Networks.

Form Number: N/A.

Type of Review: Extension of a currently approved collection.

Respondents: State, local or tribal government.

Number of Respondents and Responses: 50 respondents; 50 responses.

Estimated Time per Response: 1 hour to 200 hours.

Frequency of Response: On occasion and one-time reporting requirements.

Obligation to Respond: Required to obtain or retain benefits. Statutory authority for this information collection is contained in 47 U.S.C. sections 151, 154(i), 301 303, 332 and 337.

Total Annual Burden: 18,250 hours.

Total Annual Cost: N/A.

Privacy Act Impact Assessment: N/A.

Nature and Extent of Confidentiality: There is no need for confidentiality.

Needs and Uses: The Commission will submit this expiring information collection to the Office of Management and Budget (OMB) during this comment period to obtain the full three year clearance from them. There is no change in the Commission's reporting requirements. There is no change in the Commission's burden estimates.

The Commission sought emergency clearance for this information collection on June 1, 2010. Emergency OMB approvals are only granted for six months. The Commission received OMB approval for the emergency request on June 17, 2010. The Commission is now renewing the OMB approval for this information collection.

FCC 10-79, PS Docket No. 06-229, the Commission grants, with conditions, 21 waiver petitions filed by public safety entities (Petitioners) seeking early deployment of statewide or local public safety broadband networks in the 700 MHz spectrum. This waiver serves the public interest by allowing state and local jurisdictions to begin broadband deployment and speed services to the public safety community. This will also allow the Petitioners to take advantage of available or potential funding, either through grants or planned budgetary expenditures, as well as to take advantage of economies of scale and other cost saving measures for deployments that are already planned. In addition, Petitioners could benefit from the announced plans of some commercial carriers to begin construction of LTE-based networks this year and early next year, which would result in significant cost-savings.

One of the conditions for such waiver is submission of interoperability plans to the Commission's Emergency Response Interoperability Center (ERIC). The Commission recently decided to establish ERIC to promote appropriate technical requirements that will ensure interoperability for these early deployments from their inception, as well as for any future deployed networks. Given the rapidly evolving nature of 3GPP deployments and standards, submission of the Petitioners' interoperability plans will help ensure interoperability and roaming among these early deployments. See the June 30, 2010 notice that was published at 75 FR 37800 for more details on the various requirements for state, local or tribal government.

This information will be used by FCC staff to facilitate deployment of state and local public safety broadband networks as an initial step towards development of a nationwide, interoperable public safety broadband network. Accurate recordkeeping of this data is vital in developing the regulatory framework for this network. Since such a network is vital for public safety and homeland security, its proper operation must be assured.

Federal Communications Commission.
Marlene H. Dortch,
Secretary,
Office of the Secretary,
Office of Managing Director.

[FR Doc. 2010-23605 Filed 9-21-10; 8:45 am]

BILLING CODE 6712-01-S